DEPARTMENT OF COMMERCE

National Oceanic and Atmospheric Administration

[RTID 0648-XD528]

Pacific Fishery Management Council; Public Meeting

AGENCY: National Marine Fisheries Service (NMFS), National Oceanic and Atmospheric Administration (NOAA), Commerce.

ACTION: Notice of public meeting.

SUMMARY: The Pacific Fishery Management Council's (Pacific Council) Ad-hoc Sacramento River Fall Chinook (SRFC) Workgroup will hold two 2-day meetings.

DATES: The online meetings will be held on (1) Tuesday, January 30 through Wednesday, January 31, 2024, daily from 9 a.m. until 3 p.m., Pacific Standard Time or when business for the day concludes, and (2) Wednesday, May 1 through Thursday, May 2, 2024, daily from 9 a.m. until 3 p.m., Pacific Daylight Time or when business for the day concludes.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Robin Ehlke, Staff Officer, Pacific Council; telephone: (503) 820-2410.

SUPPLEMENTARY INFORMATION: The purpose of the Workgroup is to develop potential improvements to SRFC assessment and management for Pacific Council consideration that would evaluate current management measures, provide a workplan to accomplish the work, and eventually provide new or updated products for Pacific Council consideration. The first meeting will likely focus on collecting and summarizing relevant information on SRFC stock status, reviewing the current models and methods used for harvest management, and identifying data gaps. A draft outline of the workplan could be developed for discussion at the next meeting. At that second meeting, the Workgroup could refine the workplan and timeline, and assign tasks to address each item, coordinate analysis as needed, and prepare for the upcoming Pacific Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: November 14, 2023.
Rey Israel Marquez,
Acting Deputy Director, Office of Sustainable Fisheries, National Marine Fisheries Service.

[FR Doc. 2023-25483 Filed 11-16-23; 8:45 am]

BILLING CODE 3510-22-P